DEPARTMENT OF ENERGY

Federal Energy Regulatory Commission

[Docket No. CP25-30-000]

Florida Gas Transmission Company, LLC; Notice of Schedule for the Preparation of an Environmental Assessment for the South Central Louisiana Project

On December 13, 2024, Florida Gas Transmission Company, LLC (FGT) filed an application in Docket No. CP25-30-000 requesting a Certificate of Public Convenience and Necessity pursuant to section 7(c) the Natural Gas Act to construct and operate certain natural gas pipeline facilities. The proposed project is known as the South Central Louisiana Project (Project), and would increase certified capacity and throughput at existing compressor stations. FGT would construct, modify, install, own, operate and maintain certain natural gas compressor stations and auxiliary facilities in St. Landry and East Baton Rouge Parishes, Louisiana. The purpose of the Project is to provide an additional firm transportation capacity of up to 75,000 million British thermal units per day (MMBtu/d) of natural gas.

On December 31, 2024, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ For tracking purposes, the Council on Environmental Quality unique identification number for documents relating to this environmental review is EAXX-019-20-000-1739964549. 40 CFR 1501.5(c)(4) (2024).

Schedule for Environmental Review

Issuance of EA—July 25, 2025

90-day Federal Authorization Decision Deadline ²—October 23, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

FGT proposes to increase certificated capacity and increase throughput at existing FGT compressor stations 7.5 and 8, and construct, modify, install, own, operate, and maintain certain natural compression facilities and auxiliary facilities, all located in St. Landry and East Baton Rouge Parishes, Louisiana.

The South Central Louisiana Project would uprate one existing natural gas-fired compressor turbine unit and re-wheel three existing natural gas-fired compressor turbine units in St. Landry Parish, Louisiana; construct one new natural gas-fired turbine compressor unit East Baton Rouge Parish, Louisiana; construct approximately 700 feet of new 30-inch suction and 30-inch discharge header piping at CS8; and install/modify auxiliary facilities as needed.

Background

On January 30, 2025, the Commission issued a Notice of Scoping Period Requesting Comments on Environmental Issues for the Proposed South Central Louisiana Project (Notice of Scoping). The Notice of Scoping was sent to affected landowners; Federal, State, and local government agencies; elected officials; environmental and public interest groups; Native American Tribes; other interested parties; and local libraries and newspapers. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-30), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 19, 2025.
Debbie-Anne A. Reese,
Secretary.

[FR Doc. 2025-03084 Filed 2-25-25; 8:45 am]

BILLING CODE 6717-01-P